FEDERAL COMMUNICATIONS COMMISSION

47 CFR Part 25

[IB Docket No. 96-111; FCC 99-325]

Common Carrier Services: Satellite Communications—Earth Stations Operating with Non-U.S. Licensed Space Stations; Application Requirements

AGENCY: Federal Communications Commission.

ACTION: Final rule; announcement of effective date.

SUMMARY: This document announces the effective date of rules published in the Federal Register on November 15, 1999. They related to application requirements for earth stations communicating with non-U.S. licensed space stations.

EFFECTIVE DATES: The amendments to 47 CFR 25.137 published at 64 FR 61791 became effective on December 22, 1999.

FOR FURTHER INFORMATION CONTACT: Steven Spaeth, International Bureau, (202) 418-1539.

SUPPLEMENTARY INFORMATION:

1. On October 29, 1999, the Commission released a First Order on Reconsideration, a summary of which was published in the Federal Register. See 64 FR 61791, November 15, 1999. The First Order on Reconsideration streamlined the process established in the Commission's 1997 DISCO II Order, by which non-U.S. licensed fixed-satellites providing service in the conventional C-and Ku-bands may serve the U.S. market. Because the amendments to 47 CFR 25.137 imposed modified information collection requirements, the amendments could not become effective until approved by the Office of Management and Budget (“OMB”), and no sooner than December 15, 1999. OMB approved these amendments on December 22, 1999.

2. The Federal Register summary stated that the Commission would publish a document announcing the effective date of the rule changes requiring OMB approval. The amendments to 47 CFR 25.137 became effective on December 22, 1999. This publication satisfies the statement that the Commission would publish a document announcing the effective date of the rule changes requiring OMB approval.

List of Subjects in 47 CFR Part 25

Satellites.

Federal Communications Commission.
Magalie Roman Salas,
Secretary.

[FR Doc. 00-1619 Filed 1-21-00; 8:45 am]

BILLING CODE 6712-01-P